ENVIRONMENTAL PROTECTION AGENCY

[ER-FRL-8997-7]

Environmental Impacts Statements; Notice of Availability

Responsible Agency: Office of Federal Activities, General Information (202) 564-1399 or http://www.epa.gov/compliance/nepa/.

Weekly Receipt of Environmental Impact Statements Filed 06/20/2011 Through 6/24/2011 Pursuant to 40 CFR 1506.9

Notice:

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110199, Draft EIS, BLM, CA, West Chocolate Mountains Renewable Energy Evaluation Area, Evaluating Allocated Federal Mineral Estate (not including acquired lands) for Leasing, Testing, and Development of Geothermal Power, Imperial County, CA, Comment Period Ends: 09/29/2011, Contact: Joe Vieira 719-852-6213. This document is available on the Internet at: http://www.blm.gov/ca/st/en/fo/elcentro/nepa/wcm.html.

EIS No. 20110200, Final Supplement, TVA, TN, Sequoyah Nuclear Plant Units 1 and 2, License Renewal, Updated Information Resulting from Renewing Operating License, Application Renewal, Hamilton County, TN, Review Period Ends: 08/01/2011, Contact: Amy Henry 856-632-4045.

EIS No. 20110201, Draft EIS, BIA, CA, Los Coyotes Band of Cahuilla and Cupeno Indians Fee-To-Trust and Casino-Hotel Project, To Improve Long-Term Economic Development, Implementation, City of Barstow, San Bernardino County, CA, Comment Period Ends: 09/14/2011, Contact: John Rydzik 916-978-6051.

EIS No. 20110202, Final EIS, NOAA, 00, Amendment 11 to the Atlantic Mackerel, Squid, and Butterfish (MSB), Update Information MSB Essential Fish Habitat; Establish a Mackerel Recreational Allocation; Establish a Cap to Limit the At-Sea Processing of Mackerel, Fishery Management Plan (FMP), Establish an Atlantic Mackerel Limited Access Program, Implementation, Review Period Ends: 08/01/2011, Contact: Patricia A. Kurkul 978-281-9250.

EIS No. 20110203, Final EIS, NSF, 00, PROGRAMMATIC—Marine Seismic Research Funded by the National Science Foundation or Conducted by the U.S. Geological Survey, To Fund the Investigation of the Geology and Geophysics of the Seafloor by Collecting Seismic Reflection and Refraction Data, Across the World's Ocean, Review Period Ends: 08/01/2011, Contact: Holly Smith 703-292-8583.

EIS No. 20110204, Draft EIS, FRBSF, WA, 1015 Second Avenue Property, Involving Disposition of the Property Either Through Transfer, Donations, or Sale, Downtown Seattle, WA, Comment Period Ends: 08/15/2011, Contact: Robert Keller 415-974-2655. This document is available on the Internet at: http://www.frbsf.org/news.

EIS No. 20110205, Draft EIS, USFS, NV, Ely Westside Rangeland Project, Authorization of Livestock Grazing, To Improve the Health of the Land and To Protect Essential Ecosystem Functions and Values, Implementation, Humboldt-Toiyabe National Forest, Lincoln, Nye, and Pine Counties, NV, Comment Period Ends: 08/15/2011, Contact: Vernon Keller 775-355-5356.

EIS No. 20110206, Final EIS, FTA, MI, Woodward Avenue Light Rail Transit Project, Construction and Operation, Funding, City of Detroit, Wayne County, MI, Review Period Ends: 08/01/2011, Contact: Tricia Harr 202-366-0486.

EIS No. 20110207, Draft EIS, NOAA, 00, Generic—Annual Catch Limits/Accountability Measures Amendment for the Gulf of Mexico Fishery Management Council's Red Drum, Reef Fish, Shrimp, Coral and Coral Reefs, Fishery Management Plans, Implementing the National Standard 1 Guidelines, Comment Period Ends: 08/15/2011, Contact: Roy E. Crabtree 727-824-5305.

EIS No. 20110208, Second Draft Supplement, BOEMRE, 00, Gulf of Mexico Outer Continental Shelf Oil and Gas Lease Sales: 2012 Central Planning Area Lease Sales: 216 and 222, Potential Changes to the Baseline Conditions, Offshore Marine Environment and Coastal Counties/Parishes of MS, LA, and AL, Comment Period Ends: 08/15/2011, Contact: Gary Goeke 504-736-3233.

EIS No. 20110209, Draft Supplement, USFWS, AL, Beach Club West and Gulf Highlands Condominiums Residential/Recreational Condominium Project, Incidental Take Permits for Construction and Occupancy, Consider Issuance of U.S. Army COE Section 10 and 404 Permits, Baldwin County, AL, Comment Period Ends: 08/15/2011, Contact: David Dell 404-679-7313.

Dated: June 28, 2011.
Cliff Rader,
Environmental Protection Specialist, Compliance Division, Office of Federal Activities.

[FR Doc. 2011-16585 Filed 6-30-11; 8:45 am]

BILLING CODE 6560-50-P